DEPARTMENT OF THE INTERIOR

Bureau of Land Management

[LLNVC01000.L19200000.ET0000; LRORF1811000; MO# 4500152931]

Notice of Proposed Extension of Public Land Order No. 7873 and Public Meeting; Nevada

AGENCY: Bureau of Land Management, Interior.

ACTION: Notice.

SUMMARY: In response to a petition from the Bureau of Land Management (BLM) the Secretary of the Interior proposes to extend the duration of the withdrawal created by Public Land Order (PLO) No. 7873 for an additional four-year term. The withdrawal created by PLO No. 7873 expires on August 22, 2022. The petition/application also includes the proposed withdrawal extension of 68,809.44 acres of Federal land in the Dixie Valley Training Area from the mineral leasing laws (not currently withdrawn from these laws under Section 3016 of the National Defense Authorization Act (NDAA) for Fiscal Year 2000, to maintain the current environmental baseline, relative to mineral exploration and development for land management evaluation purposes, subject to valid existing rights. This Notice invites the public to comment on the BLM application for the requested four-year withdrawal extension and notifies the public that at least one public meeting will occur.

DATES: Comments on the proposed 4-year withdrawal should be received on or before January 10, 2022.

In addition, a virtual public meeting will be held December 9, 2021, 4:00 p.m. Pacific Time (U.S. and Canada). The Zoom link for the Bureau of Land Management—Carson City Land Management Evaluation Withdrawal Extension—Virtual Public Meeting is as follows:

Register in advance for this webinar: https://empsi.zoom.us/webinar/register/WN_D_Kw02L0TuSrS6we67_LdQ.

After registering, you will receive a confirmation email containing information about joining the webinar.

ADDRESSES: Comments should be submitted by any of the following methods:

• Email: blm_nv_ccdowebmail@blm.gov with the subject line “LME Withdrawal Extension”.

• Fax: (775) 885-6147.

• Mail: BLM Carson City District Office, Attn: LME Withdrawal Extension, 5665 Morgan Mill Rd., Carson City, NV 89701.

FOR FURTHER INFORMATION CONTACT: Colleen Dingman, BLM, Carson City District Office, 775-885-6168; address: 5665 Morgan Mill Rd., Carson City, NV 89701; email: cjdingman@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: PLO No. 7873 withdrew approximately 694,838.84 acres of Federal land in Churchill, Lyon, Mineral, Nye, and Pershing Counties, Nevada, for up to four years from all forms of appropriation under the public land laws, including location and entry under the United States mining laws, and leasing under the mineral and geothermal leasing laws, subject to valid existing rights. The purpose of the proposed withdrawal extension is to maintain the current environmental baseline, relative to mining, mineral exploration and development, and geothermal energy development for land management evaluation purposes. The petition/application also includes the proposed withdrawal extension of 68,809.44 acres of Federal land in the Dixie Valley Training Area from the mineral leasing laws (not currently withdrawn from these laws under Section 3016 of the NDAA for Fiscal Year 2000, Pub. L. 106-65), to maintain the current environmental baseline, relative to mineral exploration and development for land management evaluation purposes, subject to valid existing rights.

Including the 8,722.47 acres of Department of the Navy (DON) lands, the total Federal land included in the withdrawal extension is 772,370.75 acres. Non-Federal lands totaling 66,160.53 acres are described within the withdrawal area. Any current or future Federal estate interest in these non-Federal lands is subject to this withdrawal.

The BLM and the DON are engaged in the evaluation of issues relating to possible future legislative transfer of the subject land to the jurisdiction of the DON in connection with the DON's modernization of Naval Air Station Fallon, Fallon Range Training Complex, Nevada (FRTC). While the DON requested legislative expansion of its existing withdrawal at FRTC, the NDAA for FY2021 extended the existing FRTC withdrawal for an additional 25 years but did not include the additional public lands requested for the FRTC Modernization. The DON anticipates again asking for a legislative withdrawal of these additional lands and requested that the BLM file a petition/application for extension of the existing four-year withdrawal. PLO No. 7873 is included by reference (83 FR 44654). In compliance with the National Environmental Policy Act of 1969, as amended (NEPA), the BLM Carson City District Office, Carson City, Nevada, anticipates completion of Categorical Exclusion documentation for the proposed withdrawal extension. A complete description, along with all other records pertaining to the extension, can be examined in the BLM Carson City District Office at the address shown above. Comments on the proposed 4-year withdrawal should be received on or before January 10, 2022.

In addition, a virtual public meeting will be held December 9, 2021, 4:00 p.m. Pacific Time (U.S. and Canada). The Zoom link for the Bureau of Land Management—Carson City Land Management Evaluation Withdrawal Extension—Virtual Public Meeting is as follows:

Register in advance for this webinar: https://empsi.zoom.us/webinar/register/WN_D_Kw02L0TuSrS6we67_LdQ.

After registering, you will receive a confirmation email containing information about joining the webinar.

The withdrawal extension application will be processed in accordance with the regulations set forth in 43 CFR 2310.

For a period until January 10, 2022 all persons who wish to submit comments, suggestions, or objections in connection with the proposed withdrawal extension may present their views in writing to the BLM Nevada State Director at the address indicated above. Before including your address, phone number, email address, or other personal identifying information in your comment, you should be aware that your entire comment—including your personal identifying information—may be made publicly available at any time. While you can ask us in your comment to withhold your personal identifying information from public review, we cannot guarantee that we will be able to do so.

Jon K. Raby,
State Director, Nevada.

[FR Doc. 2021-22137 Filed 10-8-21; 8:45 am]

BILLING CODE 4310-HC-P